DEPARTMENT OF ENERGY

Federal Energy Regulatory Commission

[Docket No. RP02-397-000]

ANR Pipeline Company; Notice of Tariff Filing

August 6, 2002.

Take notice that on July 29, 2002, ANR Pipeline Company (ANR) filed revised tariff sheets that propose changes to the procedures applicable to the Right of First Refusal (“ROFR”) in ANR's FERC Gas Tariff. The changes are designed to (1) allow Shippers to exercise ROFR with respect to a specified level of expiring capacity; and (2) provide for notice periods that allow ANR sufficient time to resell capacity that shippers do not wish to retain. ANR has proposed Primary Tariff Sheets that revise the currently effective tariff sheets and an Alternate Tariff Sheet that revises the pending tariff sheets that have been filed as part of ANR's Order No. 637 settlement in Docket No. RP00-332-000. ANR proposes that the Primary Sheets be placed into effect on September 1, 2002, and that the Alternate Sheet be placed into effect upon acceptance of the pending sheets in Docket No. RP00-332-000.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20320 Filed 8-9-02; 8:45 am]

BILLING CODE 6717-01-P